NATIONAL SCIENCE FOUNDATION

Sunshine Act Meeting; National Science Board

The National Science Board, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Closed teleconference of the Committee on Strategy of the National Science Board, to be held Tuesday, July 25, 2017 from 10:30 a.m. to 12:00 Noon. EDT.

PLACE: This meeting will be held by teleconference at the National Science Foundation, 4201 Wilson Blvd., Arlington, VA 22230.

STATUS: Closed.

MATTERS TO BE CONSIDERED: Committee Chair's opening remarks; Review and discussion of the FY 2019 budget submission to the Office of Management and Budget; Committee Chair's closing remarks.

CONTACT PERSON FOR MORE INFORMATION: Point of contact for this meeting is: Kathy Jacquart, 4201 Wilson Blvd., Arlington, VA 22230. Telephone: (703) 292-8000.

You may find meeting information and updates (time, place, subject matter or status of meeting) at http://www.nsf.gov/nsb/notices/.

Dated: July 17, 2017.
Chris Blair,
Executive Assistant to the NSB Office.

[FR Doc. 2017-15309 Filed 7-18-17; 11:15 am]

BILLING CODE 7555-01-P